DEPARTMENT OF ENERGY

Federal Energy Regulatory Commission

Combined Notice of Filings #2

Take notice that the Commission received the following electric rate filings:

Docket Numbers: ER10-3168-020; ER17-1636-001.

Applicants: Great River Hydro, LLC, ArcLight Energy Marketing, LLC.

Description: Notice of Non-Material Change in Status of ArcLight Energy Marketing, LLC, et al.

Filed Date: 5/19/17.

Accession Number: 20170519-5184.

Comments Due: 5 p.m. ET 6/9/17.

Docket Numbers: ER17-1632-000.

Applicants: Alabama Power Company.

Description: § 205(d) Rate Filing: Tallahassee Interconnection Contract Filing to be effective 4/20/2017.

Filed Date: 5/19/17.

Accession Number: 20170519-5072.

Comments Due: 5 p.m. ET 6/9/17.

Docket Numbers: ER17-1633-000.

Applicants: Georgia Power Company.

Description: § 205(d) Rate Filing: Tallahassee Interconnection Contract Filing to be effective 4/20/2017.

Filed Date: 5/19/17.

Accession Number: 20170519-5073.

Comments Due: 5 p.m. ET 6/9/17.

Docket Numbers: ER17-1634-000.

Applicants: Gulf Power Company.

Description: § 205(d) Rate Filing: Tallahassee Interconnection Contract Filing to be effective 4/20/2017.

Filed Date: 5/19/17.

Accession Number: 20170519-5074.

Comments Due: 5 p.m. ET 6/9/17.

Docket Numbers: ER17-1635-000.

Applicants: Mississippi Power Company.

Description: § 205(d) Rate Filing: Tallahassee Interconnection Contract Filing to be effective 4/20/2017.

Filed Date: 5/19/17.

Accession Number: 20170519-5075.

Comments Due: 5 p.m. ET 6/9/17.

Docket Numbers: ER17-1636-000.

Applicants: Great River Hydro, LLC.

Description: § 205(d) Rate Filing: MBR Tariff to be effective 5/20/2017.

Filed Date: 5/19/17.

Accession Number: 20170519-5086.

Comments Due: 5 p.m. ET 6/9/17.

Docket Numbers: ER17-1637-000.

Applicants: PacifiCorp.

Description: § 205(d) Rate Filing: PacifiCorp Energy Construction Agmt—SVEC Paisley Gen to be effective 5/8/2017.

Filed Date: 5/19/17.

Accession Number: 20170519-5097.

Comments Due: 5 p.m. ET 6/9/17.

Docket Numbers: ER17-1638-000.

Applicants: Southern California Edison Company.

Description: Tariff Cancellation: Notices of Cancellation IFA & DSA Milliken Landfill Project SA Nos. 75 & 76 to be effective 8/9/2017.

Filed Date: 5/19/17.

Accession Number: 20170519-5106.

Comments Due: 5 p.m. ET 6/9/17.

Docket Numbers: ER17-1639-000.

Applicants: AEP Generation Resources Inc.

Description: § 205(d) Rate Filing: AEP GR Conesville Zimmer Reactive Filing RS3 to be effective 5/9/2017.

Filed Date: 5/19/17.

Accession Number: 20170519-5151.

Comments Due: 5 p.m. ET 6/9/17.

Docket Numbers: ER17-1640-000.

Applicants: PJM Interconnection, L.L.C.

Description: Tariff Cancellation: Notice of Cancellation of Original Service Agreement No. 4626, Queue #AA1-135 to be effective 5/10/2017.

Filed Date: 5/19/17.

Accession Number: 20170519-5194.

Comments Due: 5 p.m. ET 6/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2017.
Kimberly D. Bose,
Secretary.

[FR Doc. 2017-10820 Filed 5-25-17; 8:45 am]

BILLING CODE 6717-01-P